DEPARTMENT OF HEALTH AND HUMAN SERVICES

Centers for Disease Control and Prevention

[30Day-20-20HP]

Agency Forms Undergoing Paperwork Reduction Act Review

In accordance with the Paperwork Reduction Act of 1995, the Centers for Disease Control and Prevention (CDC) has submitted the information collection request titled National Evaluation of the DP18-1815 Cooperative Agreement Program: Category B, Cardiovascular Disease Prevention and Management to the Office of Management and Budget (OMB) for review and approval. CDC previously published a “Proposed Data Collection Submitted for Public Comment and Recommendations” notice on July 5, 2019, to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

National Evaluation of the DP18-1815 Cooperative Agreement Program: Category B, Cardiovascular Disease Prevention and Management—New—National Center for Chronic Disease Prevention and Health Promotion (NCCDPHP), Centers for Disease Control and Prevention (CDC).

Background and Brief Description

The Centers for Disease Control and Prevention (CDC) plans to conduct a comprehensive evaluation of the recently launched five-year Cooperative Agreement program CDC-RFA-DP18-1815PPHF18: Improving the Health of Americans Through Prevention and Management of Diabetes and Heart Disease and Stroke, hereafter referred to as “1815”. This cooperative agreement funds all 50 State Health Departments and the Washington, DC health department (hereafter referred to as “HD recipients”) to support investments in implementing evidence-based strategies to prevent and manage cardiovascular disease (CVD) and diabetes in high-burden populations/communities within each state and the District of Columbia. High burden populations/communities are those affected disproportionately by high blood pressure, high blood cholesterol, diabetes, or prediabetes due to socioeconomic or other characteristics, including access to care, poor quality of care, or low income. The 1815 program is a collaboration between the Division of Diabetes Translation (DDT) and the Division of Heart Disease and Stroke Prevention (DHDSP), and is structured into two program categories aligning with each Division.

This information collection request focuses on activities conducted under Category B, Cardiovascular Disease Prevention and Management. Progress will be assessed for three CVD program areas: (1) Tracking and monitoring clinical quality measures (CQM) shown to improve healthcare quality and identify patients with hypertension; (2) Implementing team-based care and medication therapy management (TBC/MTM) for patients with high blood pressure and high blood cholesterol; and (3) Fostering community-clinical linkages (CCL) for community resources and clinical services that support systematic referrals, self-management, and lifestyle change for patients with high blood pressure and high blood cholesterol.

This cooperative agreement is a substantial investment of federal funds. DDT and DHDSP are responsible for the stewardship of these funds, and they must be able to demonstrate the types of interventions being implemented and what is being accomplished through the use of these funds. Thus, throughout the five-year cooperative agreement period, CDC will work with HD recipients to track the implementation of the cooperative agreement strategies and evaluate program processes and outcomes. In order to collect this information for Category B, CDC has designed three overarching components: (1) Category B case studies, (2) Category B cost study, and (3) Category B recipient-led evaluations. Each component consists of data collection mechanisms and tools that are designed to capture the most relevant information needed to inform the evaluation effort while placing minimum burden on respondents. Respondents will include HD recipients, as well as select HD recipient partner sites, which are organizations that HD recipients are partnering with in the implementation of the 1815 strategies.

The evaluation of cooperative agreement strategies and activities conducted by DHDSP will determine the efficiency, effectiveness, impact and sustainability of 1815-funded strategies in the promotion, prevention, and management of diabetes and heart disease and help identify promising practices that can be replicated and scaled to better improve health outcomes. In addition, evaluation plays a critical role in organizational learning, program planning, decision-making, and measurement of the 1815 strategies. As an action-oriented process, the evaluation will serve to identify programs that have positive outcomes, identify those that may need additional technical assistance support, and highlight the specific activities that make the biggest contribution to improving diabetes and cardiovascular disease prevention and management efforts. Without collection of new evaluative data, CDC will not be able to capture critical information needed to continuously improve programmatic efforts and clearly demonstrate the use of federal funds.

OMB approval is requested for three years. Participation is required for cooperative agreement awardees and voluntary for partner sites. The total estimated annualized burden hours are 743.

Estimated Annualized Burden Hours
Type of respondent | Form name | Number of respondents | Number of responses per respondent | Average burden per response (in hours)
Health Department (1815 Recipient) | CQM Health Department Interview Guide | 17 | 1 | 1.5
| CQM Group Discussion Guide | 27 | 1 | 2
| TBC Health Department Interview Guide | 9 | 1 | 1.5
| MTM Health Department Interview Guide | 8 | 1 | 1.5
| TBC Group Discussion Guide | 27 | 1 | 2
| CCL Health Department Interview Guide | 17 | 1 | 1.5
| CCL Group Discussion Guide | 27 | 1 | 2
| Cost Study Resource Use and Cost Study Inventory Tool—Health Department | 8 | 1 | 2
| Recipient-Led Evaluation Annual Report Template—Year 3 Effectiveness Brief | 51 | 1 | 8
Partner/Site-Level | CQM Partner Site-Level Interview Guide | 15 | 1 | 1
| TBC Partner Site-Level Interview Guide | 8 | 1 | 1
| MTM Partner Site-Level Interview Guide | 7 | 1 | 1
| CCL Partner Site-Level Informant Interview Guide | 15 | 1 | 1
| Cost Study Resource Use and Cost Inventory Tool—Partner/Site Level | 17 | 1 | 2

Jeffrey M. Zirger,
Lead, Information Collection Review Office, Office of Scientific Integrity, Office of Science, Centers for Disease Control and Prevention.

[FR Doc. 2020-10409 Filed 5-14-20; 8:45 am]

BILLING CODE 4163-18-P